DEPARTMENT OF ENERGY

Federal Energy Regulatory Commission

Combined Notice of Filings

Take notice that the Commission has received the following Natural Gas Pipeline Rate and Refund Report filings:

Docket Numbers: RP19-343-000.

Applicants: Texas Eastern Transmission, LP.

Description: Texas Eastern Transmission, LP submits tariff filing per 154.501: TETLP Base Rate Refund Report to be effective N/A under RP19-343.

Filed Date: 6/12/20.

Accession Number: 20200612-5143.

Comments Due: 5 p.m. ET 08/6/20.

Docket Numbers: RP16-943-003.

Applicants: Vector Pipeline L.P.

Description: Vector Pipeline L.P. submits tariff filing per 154.203: Substitute Tariff Sheets for Non-Conforming Agreements—Errata to be effective 6/1/2016 under RP16-943.

Filed Date: 07/17/2020.

Accession Numbers: 20200717-5065.

Comments Due: 5 p.m. ET 08/6/20.

Docket Numbers: RP20-1033-000.

Applicants: Great Lakes Gas Transmission Limited Partnership.

Description: Great Lakes Gas Transmission Limited Partnership submits tariff filing per 154.203: Semi-Annual Transporter's Use Report July 2020 to be effective N/A under RP20-1033.

Filed Date: 07/22/2020.

Accession Numbers: 20200722-5127.

Comments Due: 5 p.m. ET 8/3/20.

Docket Numbers: RP20-1043-000.

Applicants: Dauphine Island.

Description: 2020 Cash Out Report of Dauphin Island Gathering Partners under RP20-1043.

Filed Date: 07/27/2020.

Accession Numbers: 20200727-5058.

Comments Due: 5 p.m. ET 8/10/20.

Docket Numbers: RP20-467-002.

Applicants: Dominion Energy Cove Point LNG, LP.

Description: Compliance filing DECP—2020 Rate Case Motion Filing (Revised Tariff Records) to be effective 8/1/2020.

Filed Date: 7/29/20.

Accession Number: 20200729-5121.

Comments Due: 5 p.m. ET 8/10/20.

Docket Numbers: RP20-1047-000.

Applicants: El Paso Natural Gas Company, L.L.C.

Description: § 4(d) Rate Filing: Negotiated Rate Update (Conoco Aug 20) to be effective 8/1/2020.

Filed Date: 7/29/20.

Accession Number: 20200729-5050.

Comments Due: 5 p.m. ET 8/10/20.

Docket Numbers: RP20-1048-000.

Applicants: Big Sandy Pipeline, LLC.

Description: Compliance filing Big Sandy Fuel Filing effective 9/1/2020 to be effective N/A.

Filed Date: 7/29/20.

Accession Number: 20200729-5104.

Comments Due: 5 p.m. ET 8/10/20.

Docket Numbers: RP20-1049-000.

Applicants: Southern Star Central Gas Pipeline, Inc.

Description: § 4(d) Rate Filing: Vol. 2- Negotiated Rate Agreements—Sequent, Spotlight, Tenaska, Conexus to be effective 7/29/2020.

Filed Date: 7/29/20.

Accession Number: 20200729-5138.

Comments Due: 5 p.m. ET 8/10/20.

Docket Numbers: RP20-1050-000.

Applicants: Algonquin Gas Transmission, LLC.

Description: § 4(d) Rate Filing: Negotiated Rates—Various Releases eff 8-1-2020 to be effective 8/1/2020.

Filed Date: 7/30/20.

Accession Number: 20200730-5002.

Comments Due: 5 p.m. ET 8/11/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2020.
Nathaniel J. Davis, Sr.,
Deputy Secretary.

[FR Doc. 2020-17075 Filed 8-4-20; 8:45 am]

BILLING CODE 6717-01-P